DEPARTMENT OF COMMERCE

National Oceanic and Atmospheric Administration

RIN 0648-XN28

Pacific Halibut Fishery; Guideline Harvest Levels for the Charter Vessel Fishery for Halibut

AGENCY: National Marine Fisheries Service (NMFS), National Oceanic and Atmospheric Administration (NOAA), Commerce.

ACTION: Notice of guideline harvest level.

SUMMARY: NMFS provides notice of Pacific halibut guideline harvest levels (GHLs) for the guided sport charter vessel fishery in the International Pacific Halibut Commission (IPHC) regulatory areas 2C and 3A. The GHLs are benchmark harvest levels for participants in the charter vessel fishery for halibut in each area. This notice is necessary to meet the management and regulatory requirements for the GHLs and to inform the public about the 2009 GHLs for the charter halibut fishery.

DATES: The GHLs are effective beginning February 1, 2009, through December 31, 2009. This period is specified by the IPHC as the sport fishing season in all waters of Alaska.

FOR FURTHER INFORMATION CONTACT: Peggy Murphy, (907) 586-7228, or email at peggy.murphy@noaa.gov.

SUPPLEMENTARY INFORMATION: NMFS implemented a final rule to establish GHLs in IPHC regulatory areas 2C and 3A for the harvest of Pacific halibut (Hippoglossus stenolepis) by the charter vessel fishery on August 8, 2003 (68 FR 47256). A correcting amendment was published May 28, 2008 (73 FR 30504) to correct the GHL table at 50 CFR 300.65(c)(1) that lists GHLs corresponding to different levels of the total constant exploitation yield (CEY) because of non-substantive errors in conversions from pounds to metric tons, and rounding errors for some metric equivalents. The GHLs are intended to serve as benchmark harvest levels for participants in the charter vessel halibut fishery.

This announcement is consistent with 50 CFR 300.65(c)(2), which requires that GHLs for IPHC regulatory areas 2C and 3A be specified by NMFS and announced by publication in the Federal Register no later than 30 days after receiving information from the IPHC. The IPHC annually establishes the total CEY for halibut in IPHC regulatory areas 2C and 3A. Regulations at § 300.65(c)(1) establish the GHLs based on the total CEY that is established annually by the IPHC. The total CEY established by the IPHC for 2009 is 5,570,000 lb (2,526.5 mt) in Area 2C and 28,010,000 lb (12,705.2 mt) in Area 3A. The corresponding GHLs are 788,000 lb (357.4 mt) in Area 2C, and 3,650,000 lb (1,655.6 mt) in Area 3A. The GHL in Area 2C has been reduced from the 2008 level of 931,000 lb (422.3 mt). The GHL for Area 3A did not change.

This is a notice of the GHLs in Areas 2C and 3A for 2009 and does not require any regulatory action by NMFS. If a GHL is exceeded in 2009, NMFS will notify the North Pacific Fishery Management Council (Council) in writing within 30 days of receipt of that information. The Council has proposed management actions to reduce the harvest of Pacific halibut in the Area 2C guided charter vessel fishery to the GHL (73 FR 78276, December 22, 2008). The Secretary of Commerce may issue a final rule after consideration of the 2009 GHL and public comments on the proposed rule.

Classification

This notice does not require any additional regulatory action by NMFS and does not impose any additional restrictions on harvests by the charter fishery. If a GHL is exceeded in any year, the Council would be notified, but would not be required to take action. This process of notification is intended to provide the Council with information about the level of Pacific halibut harvest by the charter vessel fishery in a given year and could prompt future action.

Authority: 16 U.S.C. 773 et seq.

Dated: February 17, 2009.
Emily H. Menashes,
Acting Director, Office of Sustainable Fisheries, National Marine Fisheries Service.

[FR Doc. E9-3922 Filed 2-23-09; 8:45 am]

BILLING CODE 3510-22-S